DEPARTMENT OF ENERGY

Federal Energy Regulatory Commission

[Project No. 5044-015]

Avondale Mills Inc.; Augusta Canal Authority; Notice of Application for Transfer of License, and Soliciting Comments and Motions To Intervene

September 24, 2010.

On September 13, 2010, Avondale Mills Inc. (transferor) and Augusta Canal Authority (transferee) filed an application for transfer of license for the Sibley Mill Project No. 5044, located on the Augusta Canal in the City of Augusta, Richmond County, Georgia.

Applicants seek Commission approval to transfer the license for the Sibley Mill Project from transferor to transferee.

Applicants' Contact: Alan W. Stuart, Kleinschmidt Associates, 204 Caughman Farm Lane, Suite 301, Lexington, SC 20972, (803) 462-5620.

FERC Contact: Kim Carter (202) 502-6486.

Deadline for filing comments and motions to intervene: 30 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street, NE., Washington, DC 20426. More information about this project can be viewed or printed on the eLibrary link of the Commission's Web site at http://www.ferc.gov/docs-filing/elibrary.asp. Enter the docket number (P-5044) in the docket number field to access the document. For assistance, call toll-free 1-866-208-3372.

Kimberly D. Bose,
Secretary.

[FR Doc. 2010-24980 Filed 10-4-10; 8:45 am]

BILLING CODE 6717-01-P